FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011138-001

Title: Greater Bali Hai Service

Parties:

Mitsui O.S.K. Lines, Ltd.

Nippon Yusen Kaisha

China Navigation Company Limited

Kyowa Shipping Co., Ltd.

Synopsis: The proposed agreement modification adds Kyowa Shipping as a party to the joint service and updates the agreement language to eliminate unnecessary or obsolete language.

Agreement No.: 011527-006

Title: Independent Carriers Alliance

Parties:

CMA-CGM, S.A.

Hanjin Shipping Co., Ltd.

Montemar Maritima S.A.

Senator Lines GmbH

Zim Israel Navigation Company Ltd.

Synopsis: The proposed modification (1) deletes DiGregorio Navagacao Ltda. as a party; (2) adds CMA-CGM as a party; (3) deletes reference to DSR in Senator Lines' name; (4) revises Montemar Maritima S.A.'s name by deleting its d/b/a reference; (5) restates the vessel allocation and space contribution of each of the parties; (6) revises withdrawal notice provisions; (7) deletes reference to Agreement No. 011569 between DiGregorio and Amazon Line; and (8) deletes certain restrictions on the charter of space, rationalization of sailing or other cooperative arrangements with outside parties but retains the right of first refusal for other agreement parties with respect to the chartering of any excess space by any member.

Agreement No.: 011760

Title: Discovery Cruise Line/Seaboard Space Charter and Sailing Agreement

Parties: Discovery Sun Partnership, d/b/a Discovery Cruise Line

Seaboard Marine, Ltd.

Synopsis: The proposed agreement authorizes the parties to share vessel space in the trade between U.S. Atlantic ports, including Puerto Rico, and ports in the Bahamas.

Agreement No.: 011761

Title: CMA CGM/Norasia Transpacific Loop 3 Slot Charter Agreement

Parties:

CMA CGM, S.A.

Norasia Container Lines Limited

Synopsis: The proposed agreement establishes a vessel-sharing agreement between the parties in the trade between the West Coast of the United States and ports in the Far East in the Japan/Singapore/South East Asia range.

By Order of the Federal Maritime Commission.
Dated: April 20, 2001.
Bryant L. VanBrakle,
Secretary.

[FR Doc. 01-10287 Filed 4-25-01; 8:45 am]

BILLING CODE 6730-01-P